DEPARTMENT OF ENERGY

Federal Energy Regulatory Commission

[Docket No. EC01-70-000]

Wisvest-Connecticut, LLC and Bridgepower Harbor Power, LLC, New Haven Harbor Power, LLC, and NRG Connecticut Power Assets, LLC; Notice of Filing

June 8, 2001.

Take notice that on June 4, 2001, Wisvest-Connecticut, LLC (Wisvest) and NRG Connecticut Power Assets LLC (NRG Connecticut) [together Applicants] filed with the Federal Energy Regulatory Commission a request for a protective order in the above-captioned proceeding.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before June 14, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-14954 Filed 6-13-01; 8:45 am]

BILLING CODE 6717-01-M